ENVIRONMENTAL PROTECTION AGENCY

40 CFR Part 52

[EPA-R01-OAR-2014-0909; FRL-9949-15-Region 1]

Air Plan Approval; New Hampshire; Regional Haze 5-Year Report

ACTION: Proposed rule.

SUMMARY: The Environmental Protection Agency (EPA) is proposing to approve a State Implementation Plan (SIP) revision submitted by the State of New Hampshire on December 16, 2014. New Hampshire's SIP revision addresses requirements of the Clean Air Act (CAA) and EPA's rules that require states to submit periodic reports describing progress toward reasonable progress goals (RPGs) established for regional haze and a determination of the adequacy of the State's existing Regional Haze SIP. In addition, the December 16, 2014 submittal includes a revised regulation that reduces the total suspended particulate (TSP) emission limit for the State's sole Tangential-Firing, Dry-Bottom Boiler.

DATES: Written comments must be received on or before August 18, 2016.

ADDRESSES: Submit your comments, identified by Docket ID Number EPA-R01-OAR-2014-0909 at http://www.regulations.gov, or via email to arnold.anne@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the “For Further Information Contact” section. For the full EPA public comment policy, information about CBI or multimedia submissions, and general guidance on making effective comments, please visit http://www2.epa.gov/dockets/commenting-epa-dockets.

FOR FURTHER INFORMATION CONTACT: Anne McWilliams, Air Quality Unit, U.S. Environmental Protection Agency, EPA New England Regional Office, 5 Post Office Square—Suite 100, (Mail Code OEP05-02), Boston, MA 02109—3912, telephone number (617) 918-1697, fax number (617) 918-0697, email mcwilliams.anne@epa.gov.

SUPPLEMENTARY INFORMATION: Throughout this document whenever “we,” “us,” or “our” is used, we mean EPA.

Organization of this document. The following outline is provided to aid in locating information in this preamble.

I. Background

II. Requirements for Regional Haze 5-Year Progress Report SIPs and Adequacy Determinations

III. EPA's Evaluation of New Hampshire's SIP Revision

A. Regional Haze Progress Report

B. Determination of Adequacy of Existing Regional Haze Plan

C. Revised Env-A 2302.02 Emission Standards Applicable to Tangential-Firing, Dry-Bottom Boilers

IV. Proposed Action

V. Incorporation by Reference

VI. Statutory and Executive Order Reviews

I. Background

States are required to submit a progress report in the form of a SIP revision every five years that evaluates progress towards the RPGs for each mandatory Class I Federal area ¹ (Class I area) within the state and in each Class I area outside the state which may be affected by emissions from within the state. See 40 CFR 51.308(g). In addition, the provisions under 40 CFR 51.308(h) require states to submit, at the same time as the 40 CFR 51.308(g) progress report, a determination of the adequacy of the state's existing Regional Haze SIP. The first progress report SIP is due five years after submittal of the initial Regional Haze SIP. On January 29, 2010, the New Hampshire Department of Environmental Services (NH DES) submitted the State's first Regional Haze SIP in accordance with 40 CFR 51.308.²

¹ Areas designated as mandatory Class I Federal areas consist of national parks exceeding 6000 acres, wilderness areas and national memorial parks exceeding 5000 acres, and all international parks that were in existence on August 7, 1977 (42 U.S.C. 7472(a)).

² On August 22, 2012, EPA approved New Hampshire's Regional Haze SIP submittal addressing the requirements of the first implementation period for regional haze. See 77 FR 50602.

On December 16, 2014, NH DES submitted a revision to the New Hampshire SIP detailing the progress made in the first planning period toward implementation of the Long Term Strategy (LTS) outlined in the 2010 Regional Haze SIP submittal, the visibility improvement measured at the State's Class I areas, and a determination of the adequacy of the State's existing Regional Haze SIP. EPA is proposing to approve New Hampshire's December 16, 2014 SIP revision on the basis that it satisfies the requirements of 40 CFR 51.308(g) and (h).

II. Requirements for Regional Haze 5-Year Progress Report SIPs and Adequacy Determinations

Under 40 CFR 51.308(g), States must submit a regional haze progress report as a SIP revision every five years and must address the seven elements found in 40 CFR 51.308(g). As described in further detail in section III of this proposed rulemaking, 40 CFR 51.308(g) requires: (1) A description of the status of measures in the approved Regional Haze SIP; (2) a summary of emissions reductions achieved; (3) an assessment of visibility conditions for each Class I area in the state; (4) an analysis of changes in emissions from sources and activities within the state; (5) an assessment of any significant changes in anthropogenic emissions within or outside the state that have limited or impeded progress in Class I areas impacted by the state's sources; (6) an assessment of the sufficiency of the approved Regional Haze SIP; and (7) a review of the state's visibility monitoring strategy.

Under 40 CFR 51.308(h), states are required to submit, at the same time as the progress report SIP, a determination of the adequacy of their existing Regional Haze SIP and to take one of the following four possible actions based on information in the progress report: (1) Submit a negative declaration to EPA that no further substantive revision to the state's existing Regional Haze SIP is needed; (2) provide notification to EPA (and other state(s) that participated in the regional planning process) if the state determines that the existing Regional Haze SIP is, or may be, inadequate to ensure reasonable progress at one or more Class I areas due to emissions from sources in other state(s) that participated in the regional haze planning process, and collaborated with these other state(s) to develop additional strategies to address deficiencies; (3) provide notification with supporting information to EPA if the state determines that its existing Regional Haze SIP is, or may be, inadequate to ensure reasonable progress at one or more Class I areas due to emissions from sources in another county; or (4) revise its Regional Haze SIP to address deficiencies within one year if the state determines that its existing Regional Haze SIP is or may be inadequate to ensure reasonable progress in one or more Class I areas due to emission from sources within the state.

III. EPA's Evaluation of New Hampshire's SIP Revision

On December 14, 2014, New Hampshire submitted the “Regional Haze 5-Year Progress Report” (Progress Report) to EPA as a SIP revision.

New Hampshire has two Class I areas within its borders: Great Gulf Wilderness Area (Great Gulf) and Presidential Range-Dry River Wilderness Area (Dry River), both located within the White Mountains National Forest. Emissions from New Hampshire's sources were also found to impact visibility at one nearby Class I area, Acadia National Park in Maine (Acadia). See 77 FR 11809 (February 28, 2012).

Through the consultation process, New Hampshire agreed to pursue the coordinated course of action agreed to by the Mid-Atlantic/Northeast Visibility Union (MANE-VU) ³ to assure reasonable progress toward preventing any future, and remedying any existing, impairment of visibility in the mandatory Class I areas within the MANE-VU region. These measures are: Implementation of best available retrofit technology (BART) requirements; a low-sulfur fuel oil strategy; a targeted electricity generating unit (EGU) strategy; and continued evaluation of other control measures.⁴ While New Hampshire did not adopt a low-sulfur fuel oil strategy for implementation during the first regional haze planning period, the State showed in its 2010 Regional Haze SIP that equivalent emission reductions were achieved through alternate measures such as recent fuel switching at a coal-fired power plant in the state (i.e., Schiller Station) and facility shutdowns.

³ MANE-VU is a collaborative effort of State governments, Tribal governments, and various federal agencies established to initiate and coordinate activities associated with the management of regional haze, visibility and other air quality issues in the Northeastern United States. Member State and Tribal governments include: Connecticut, Delaware, the District of Columbia, Maine, Maryland, Massachusetts, New Hampshire, New Jersey, New York, Pennsylvania, Penobscot Indian Nation, Rhode Island, and Vermont.

⁴ The MANE-VU “Ask” was structured around the finding that SO2 emissions were the dominate visibility impairing pollutant at the Northeastern Class I areas and electrical generating units comprised the largest SO2 emission sector. See “Regional Haze and Visibility in the Northeast and Mid-Atlantic States,” January 31, 2001.

A. Regional Haze Progress Report

This section summarizes each of the seven elements that must be addressed by the progress report under 40 CFR 51.308(g), and describes how New Hampshire's progress report SIP addresses each element. This section also includes EPA's analysis of New Hampshire's SIP, and our proposed determination as to whether the State satisfied each element.

The provisions in 40 CFR 51.308(g)(1) require a description of the status of implementation of all measures included in the Regional Haze SIP for achieving RPGs for Class I areas both within and outside the state. New Hampshire's 2010 Regional Haze SIP RPGs are based on: Control measures for the State's two subject-to-BART sources; control measures for one additional EGU stack; and sulfur dioxide (SO2) emission reductions from States found to be contributing to the visibility impairment at the New Hampshire Class I areas. New Hampshire's two subject-to-BART sources are Eversource Energy (formally Public Service of New Hampshire (PSNH)) Merrimack Station Unit MK2 and Eversource Energy (formally PSNH) Newington Unit NT1. Along with the two subject-to-BART units, Eversource Energy Merrimack Station Unit MK1 was identified as among the top 167 EGUs contributing to visibility impairment. New Hampshire's 2010 Regional Haze SIP included control measures for these three units. The 2014 Progress Report confirms the installation and use of flue gas desulfurization (FGD) for Merrimack Station Units MK1 and MK2; the implementation of a more stringent SO2 emission limit for Newington Station; and the implementation of more stringent emission limits for the existing oxides of nitrogen (NOX) and particulate emission control technologies in use at Merrimack and Newington Stations.

In addition, the New Hampshire 2014 Progress Report also includes the status of SO2 emission reductions from the identified top 167 EGUs outside of New Hampshire.⁵ The MANE-VU targeted EGU strategy called for a 90% SO2 reduction from the top contributing stacks by 2018. New Hampshire reports SO2 scrubbers have already been placed on many of the 167 targeted EGUs, while other units have seen lower utilization or have been shut down entirely.

⁵ Memorandum from NESCAUM to MANE-VU “Overview of State and Federal Actions Relative to MANE-VU Asks” dated March 28, 2013. http://www.nescaum.org/documents/summary-memo-mane-vu-asks-20130328-final.pdf/.

EPA proposes that New Hampshire's analysis adequately addresses the provisions under 40 CFR 51.308(g)(1). The State demonstrates the implementation of measures within the State, including BART and targeted SO2 reductions from New Hampshire's three in-state units that were part of the contributing 167 stacks. In addition, the Progress Report documents the status of requested SO2 reductions from the remaining top 167 stacks outside of New Hampshire.

The provision under 40 CFR 51.308(g)(2) requires a summary of the emission reductions achieved in the state through the measures subject to the requirements under 40 CFR 51.308(g)(1). During the development of the Regional Haze SIP for the first planning period, MANE-VU and New Hampshire determined that SO2 was the greatest contributor to anthropogenic visibility impairment at the State's Class I areas. Therefore, the bulk of visibility improvement achieved in the first planning period was expected to result from reductions in SO2 emissions from sources inside and outside of the State. Table 6-1 of the 2014 Progress Report details the SO2 emission reduction from the 2002 New Hampshire Regional Haze SIP baseline to 2013 for not only the targeted Merrimack Station Units MK1 and MK2 and Newington Unit NT1, but all New Hampshire EGUs.⁶ The targeted EGU units subject to control through the installation of BART and New Hampshire's LTS show an emission reduction from 35,882 tons SO2 in 2002 to 1,729 tons SO2 in 2013, a reduction of 95%. NOX emissions from these same sources were reduced from 4,776 tons in 2002 to 2,230 tons in 2013, a reduction of 57%. All New Hampshire EGUs combined showed a 92.8% reduction in SO2 emissions and a 61.3% reduction in NOXemissions for the same time period.

⁶ New Hampshire's progress report SIP includes annual unit-level emissions data for SO2 and NOX from EGUs from EPA's Clean Air Markets Division (CAMD) for the years 2002 and 2013.

EPA proposes to find that New Hampshire has adequately addressed the provision under 40 CFR 51.308(g)(2). New Hampshire has detailed the SO2 and NOX reduction from the 2002 Regional Haze baseline to the most recently available year of data at the time of the development of New Hampshire's Progress Report, 2013. In addition, NH DES highlighted SO2 and NOX emissions reductions from all New Hampshire EGUs during this same time period.

The provisions under 40 CFR 51.308(g)(3) require that states with Class I areas within their borders provide the following information for the most impaired and least impaired days ⁷ for each area, with values expressed in terms of five-year averages of these annual values: (1) Current visibility conditions; (2) the difference between current visibility conditions and baseline visibility conditions; and (3) the change in visibility impairment over the past five years.

⁷ The “most impaired days” and “least impaired days” in the regional haze rule refer to the average visibility impairment (measured in deciviews (dv)) for the twenty percent monitored days in the calendar year with the highest and lowest amount of visibility impairment, respectively, averaged over a five-year period. See 40 CFR 51.301. The lower the dv, the better the visibility in an area.

New Hampshire is home to two Class I areas, Great Gulf and Dry River. The Interagency Monitoring of Protected Visual Environments program (IMPROVE) monitor within Great Gulf is representative of both New Hampshire Class I areas. In the Progress Report, NH DES provides the data for the baseline 2000-2004 5-Year Average visibility, the most recent 2009-2013 5-Year Average visibility, the 2018 RPG from the 2010 Regional Haze SIP, and the calculated visibility improvement. See Table 1.

Table 1—Observed Visibility vs. Established Visibility Goals (Deciviews) for Great Gulf Wilderness Area
| Baseline 2000-2004 5-year average visibility | Most recent 2009-2013 5-year average visibility | Visibility mprovement | 2018 Reasonable progress goal | 2064 Goal (natural visibility)
20% Most Impaired Days | 22.8 dv | 16.7 dv | 6.1 dv | 19.1 dv | 12.0 dv
20% Least Impaired Days | 7.7 dv | 5.9 dv | 1.8 dv | 7.2 dv | 3.7 dv

The baseline visibility for Great Gulf was 22.8 dv on the 20% most impaired days and 7.7 dv on the least impaired days. The most recent five-year average visibility data shows an improvement of 6.1 dv on the 20% most impaired days and 1.8 dv improvement on the 20% least impaired days. The 2014 Progress Report also demonstrates that the State has already achieved and surpassed the 2018 RPG for the 20% most impaired days and ensured no visibility degradation for the 20% least impaired days for the first planning period.

EPA is proposing to find that New Hampshire provided the required information regarding visibility conditions to meet the requirements under 40 CFR 51.308(g)(3), specifically providing baseline visibility conditions (2000-2004), current conditions based on the most recently available IMPROVE monitoring data (2009-2013), and the difference between current visibility conditions and baseline visibility conditions.

The provisions under 40 CFR 51.308(g)(4) require an analysis tracking emissions changes of visibility-impairing pollutants from the state's sources by type or category over the past five years based on the most recent updated emissions inventory. In its progress report SIP to address the requirements of 40 CFR 51.308(g)(4), New Hampshire presents data from statewide emissions inventories developed for the years 2002, 2007, 2013 (EGUs only), and projected inventories for 2018 for SO2, NOX, PM2.5 and Volatile Organic Compounds (VOC).8 9 New Hampshire's emissions inventories include the following source classifications: Point EGUs, Point Non-EGUs, Area, On-road Mobile, and Non-road Mobile. From 2002 through 2013, New Hampshire's overall EGU (the largest SO2 sector) emissions were reduced from 43,962 tons per year (tpy) SO2 to 3,167 tpy, surpassing the 2018 projected goal of 10,766 tpy SO2. For NOX, from 2002 to 2007, the State achieved an overall 13% reduction from 64,625 tpy to 56,110 tpy. NH DES is projecting an additional 25,000 tpy reduction in NOX by 2018, mostly from the on-road mobile sector, which would result in approximately 31,110 tpy NOX in 2018. This estimate compares well with the 2018 projected goal of 30,369 tpy. Finally, NH DES indicates that based on the 2007 emission data, the State has already exceeded the 2018 emission reduction goals for direct PM2.5 (55% reduction) and VOCs (53% reduction).

⁸ The 2002 inventory is the MANE-VU V3.3 which is projected to 2018. The 2007 inventory is the MARAMA V3 inventory based on the 2007 National Emission Inventory (NEI). The 2013 inventory was the most recent year of Clean Air Markets Division (CAMD) inventory data as reported to EPA.

⁹ Mid-Atlantic Air Management Association (MARAMA) “Regional Emissions Trends Analysis for the MANE-VU States Technical Support Document Revision 3” dated March 22, 2013. Attachment D of the New Hampshire 2014 Progress Report.

EPA is proposing that New Hampshire has adequately addressed the provisions under 40 CFR 51.308(g)(4). NH DES compared the most recent updated emission inventory data available at the time of the development of the Progress Report with the baseline emissions for the Regional Haze SIP. The progress report appropriately details the 2007 SO2, NOX, PM2.5 and VOC reductions achieved, by sector, thus far in the regional haze planning period. In addition, the State provided the most recent annual EGU SO2 emission data, the sector determined to be the greatest contributor to visibility impairment at the Class I areas in New Hampshire and Maine.

The provisions under 40 CFR 51.308(g)(5) require an assessment of any significant changes in anthropogenic emissions within or outside the state that have occurred over the past five years that have limited or impeded progress in reducing pollutant emissions and improving visibility in Class I areas impacted by the state's sources. In its progress report SIP, New Hampshire states that sulfates continue to be the biggest single contributor to regional haze at Great Gulf, Dry River, and Acadia. While New Hampshire mainly focused its analysis on addressing large SO2 emissions from point sources, the State did not find any significant changes in NOX and PM2.5 which might impede or limit progress during the first planning period. In addition, NH DES cited the 2013 Northeast States for Coordinated Air Use Management (NESCAUM) report, discussed below, which indicates that all of the MANE-VU Class I areas are on track to meet the 2018 visibility goals established by the states in their Regional Haze SIPs.¹⁰

¹⁰ NESCAUM for MANE-VU, “Tracking Visibility Progress 2004-2011,” revised May 24, 2013. http://www.nescaum.org/documents/manevu-trends-2004-2011-report-final-20130430.pdf/view.

EPA proposes to conclude that New Hampshire has adequately addressed the provisions under 40 CFR 51.308(g)(5). The State adequately demonstrated that there are no significant changes in emissions of SO2, PM2.5, or NOX within the state which have impeded progress in reducing emissions and improving visibility in the Class I areas impacted by New Hampshire sources.

The provisions under 40 CFR 51.308(g)(6) require an assessment of whether the current Regional Haze SIP is sufficient to enable the state, or other states, to meet the RPGs for Class I areas affected by emissions from the state. In its progress report SIP, NH DES states that it believes that the elements and strategies relied on in its original Regional Haze SIP are sufficient to enable New Hampshire and neighboring states to meet all established RPGs. To support this conclusion, NH DES notes that 2013 EGU SO2 emissions for the entire MANE-VU area are already less than the 2018 projection (315,675 tpy versus 365,024 tpy). In addition, New Hampshire discusses visibility data from Tracking Visibility Progress, 2004-2011, prepared by NESCAUM, which updated the progress at MANE-VU Class I areas during the five-year period ending in 2011, including information for the New Hampshire Class I areas, between 2000 and 2011 in the context of short- and long-term visibility goals. The report indicates that visibility impairment on the best and worst days from 2000 through 2011 have dropped at Great Gulf. New Hampshire notes the NESCAUM report indicates that all the MANE-VU Class I states continue to be on track to meet their 2018 RPGs for improved visibility and that further progress may occur through recently adopted or proposed regulatory programs. Based upon the NESCAUM report and visibility data, New Hampshire states in its Progress Report that visibility improvement at Great Gulf, Dry River, and Acadia has occurred for the most impaired days and no degradation of visibility has occurred for the least impaired days. Therefore, New Hampshire finds that Great Gulf, Dry River, and Acadia are on track to meet the RPGs for 2018 based on the observed visibility improvement.

EPA proposes to conclude that New Hampshire has adequately addressed the provisions under 40 CFR 51.308(g)(6). EPA views this requirement as an assessment that should evaluate emissions and visibility trends and other readily available information. In its Progress Report, New Hampshire described the improving visibility trends detailed in the NESCAUM report and the downward emissions trends in key pollutants in the State and the MANE-VU region. With a focus on SO2 emissions from New Hampshire EGUs, New Hampshire determined that the State's Regional Haze SIP is sufficient for the two Class I areas within the state and the Class I area outside the state impacted by the state's emissions (Acadia) to meet their RPGs.

The provisions under 40 CFR 51.308(g)(7) require a review of the state's visibility monitoring strategy and an assessment of whether any modifications to the monitoring strategy are necessary. New Hampshire's visibility monitoring strategy relies upon participation in the IMPROVE network. The IMPROVE monitor at the Great Gulf area is located approximately 1 mile east of the wilderness boundary and also serves as the monitor for the Dry River area whose northern most limit lies only 5 miles southwest of the monitor location. NH DES finds that there is no indication of a need for additional monitoring sites or equipment.

EPA proposes to find that New Hampshire has adequately addressed the provisions under 40 CFR 51.308(g)(7) by reviewing the state's visibility monitoring strategy and assessing whether any modifications to the monitoring strategy are necessary.

B. Determination of Adequacy of Existing Regional Haze Plan

Under 40 CFR 51.308(h), states are required to take one of four possible actions based on the information gathered and conclusions made in the progress report SIP. In its progress report SIP, New Hampshire took the action provided for by the provisions under 40 CFR 51.308(h)(1), which allow a state to submit a negative declaration to EPA.

In the 2014 SIP submittal, New Hampshire determined that the existing Regional Haze SIP requires no further substantive revision at this time to achieve the RPGs for Class I areas affected by the state's sources. The basis for the State's negative declaration is the finding that visibility has improved at all Class I areas in the MANE-VU region. In addition, SO2 emissions from the State's EGUs have decreased beyond the original 2018 projections. While NOX reductions have yet to fully meet the 2018 projections, additional substantial NOX emission reductions are expected from the mobile sector over the next several years. Finally, New Hampshire expects the downward trend in SO2 emissions from EGUs in the other MANE-VU states to continue through 2018.

EPA proposes to conclude that New Hampshire has adequately addressed the provisions under 40 CFR 51.308(h) because the visibility and emission trends indicate that the Great Gulf and Dry River Areas, in addition to Acadia which is the Class I area impacted by New Hampshire sources, will be able to meet or exceed the RPGs for 2018.

C. Revised Env-A 2302.02 Emission Standards Applicable to Tangential-Firing, Dry-Bottom Boilers

On August 22, 2012, EPA approved New Hampshire's Env-A 2300 Mitigation of Regional Haze into New Hampshire's SIP. See 77 FR 50602. Env-A 2300 is the New Hampshire regulation which establishes the emission limits associated with control measures adopted through the Regional Haze process. In the New Hampshire 2010 Regional Haze SIP, the current use of an Electrostatic Precipitator on Newington Station Unit NT1 ¹¹ represented BART for particulate control. At the time of EPA's approval, a single available stack test yielded a controlled TSP rate in the vicinity of 0.06 pounds TSP per million British thermal units (lb TSP/MMBtu) and was used to establish the TSP limit for NT1. However, the facility's Title V operating permit required that a compliance stack test for particulate matter be performed and the permit limit be amended, as appropriate, based on the results of the test. Subsequent stack testing demonstrated that 0.04 lb TSP/MMbtu is a more appropriate emission limit. Revised Env-A 2302.02, which was included in New Hampshire's December 16, 2014 SIP submittal, reduces the TSP emission limit for Newington NT1 from 0.06 lb TSP/MMbtu to 0.04 lb TSP/MMbtu.

¹¹ PSNH Newington Station Unit NT1 is the only Tangential-Firing, Dry-Bottom Boiler in New Hampshire.

EPA is proposing to find that New Hampshire's revised Env-A 2302.02 strengthens the existing SIP and is therefore proposing to approve, and incorporate into the New Hampshire SIP, revised Env-A 2302.02.

EPA is soliciting public comments on the issues discussed in this notice or on other relevant matters. These comments will be considered before taking final action. Interested parties may participate in the Federal rulemaking procedure by submitting written comments to the EPA New England Regional Office listed in the ADDRESSES section of this Federal Register.

IV. Proposed Action

EPA is proposing to approve New Hampshire's December 16, 2014 Regional Haze 5-Year Progress Report as meeting the requirements of 40 CFR 51.308(g) and (h). In addition, EPA is proposing to approve, and incorporate into the New Hampshire SIP, New Hampshire's revised section Env-A 2302.02 Emission Standards Applicable to Tangential-Firing, Dry Bottom Boilers.

V. Incorporation by Reference

In this rulemaking, the EPA is proposing to include in a final EPA rule regulatory text that includes incorporation by reference. In accordance with requirements of 1 CFR 51.5, the EPA is proposing to incorporate by reference New Hampshire's revised Env-A 2302.02 Emission Standards Applicable to Tangential-Firing, Dry-Bottom Boilers, effective November 22, 2014. The EPA has made, and will continue to make, these documents generally available electronically through http://www.regulations.gov and/or in hard copy at the appropriate EPA office (see the ADDRESSES section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Regional Haze, Reporting and recordkeeping requirements, Sulfur oxides, Volatile organic compounds.

Dated: July 6, 2016.
H. Curtis Spalding,
Regional Administrator, EPA New England.

[FR Doc. 2016-17063 Filed 7-18-16; 8:45 am]

BILLING CODE 6560-50-P